DEPARTMENT OF COMMERCE

National Institute of Standards and Technology

Jointly Owned Invention Available for Licensing

AGENCY: National Institute of Standards and Technology, Commerce.

ACTION: Notice of jointly owned invention available for licensing.

SUMMARY: The invention listed below is jointly owned by the U.S. Government, as represented by the Department of Commerce, and the University of California, Berkeley, the Lawrence Berkeley National Laboratory, the University of Colorado, and Protiro. The Department of Commerce's interest in the invention is available for licensing in accordance with 35 U.S.C. 207 and 37 CFR part 404 to achieve expeditious commercialization of results of federally funded research and development.

FOR FURTHER INFORMATION CONTACT: Technical and licensing information on this invention may be obtained by writing to: National Institute of Standards and Technology, Office of Technology Partnerships, Building 222, Room A242, Gaithersburg, MD 20899. Information is also available via telephone: 301-975-2649, fax 301-975-3482, or e- mail: nathalie.rioux@nist.gov. Any request for information should include the NIST Docket number or Patent number and title for the invention as indicated below. The invention available for licensing is:

NIST Docket Number: 08-017

Title: Integrated Microchip Incorporating Atomic Magnetometers and Microfluidic Channels for Detection of NMR and MRI.

Abstract: A microfluidic chip incorporating an alkali vapor cell and microfluidic channel is described, which can be used to detect the nuclear magnetism of a polarized sample of nuclei in a fluid. Small magnetic fields in the vicinity of the vapor cell can be measured by optically polarizing and probing the spin precession in said small magnetic field. This can then be used to detect the magnetic field due to the sample of nuclei in the adjacent microfluidic channel. The nuclear magnetism in the microfluidic channel can be modulated by applying an appropriate series of radio or audio frequency pulses upstream from the microfluidic chip to yield a sensitive means of detecting nuclear magnetic resonance and magnetic resonance imaging.

Dated: December 9, 2009.
Patrick Gallagher,
Director.

[FR Doc. E9-30133 Filed 12-17-09; 8:45 am]

BILLING CODE 3510-13-P